DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the names of one or more persons that have been removed from the SDN List. As of the date of publication of this notice in the Federal Register, their property and interests in property are no longer blocked, and U.S. persons are no longer generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

A. On April 11, 2022, OFAC determined that the property and interests in property subject to U.S. jurisdiction of the following persons are blocked under the relevant sanctions authority listed below.

BILLING CODE 4810-AL-P

BILLING CODE 4810-AL-C

Entity

1. I.C.I.C. KFT. (a.k.a. I.C.I.C. LTD.), Bocskai utca 9, Pecel 2119, Hungary; Organization Established Date 15 Jul 2021; Tax ID No. 27189173-1-13 (Hungary); Registration Number 13-09-214318 (Hungary) [BALKANS-EO14033] (Linked To: GRUEVSKI, Nikola).

Designated pursuant to section 1(a)(vii) of E.O. 14033 for being owned or controlled by, or having acted or purported to act for or on behalf of, directly or indirectly, Nikola Gruevski, a person whose property and interests in property are blocked pursuant to E.O. 14033.

B. On May 28, 2003, the individuals listed below were included in the Annex to Executive Order 13219 of June 26, 2001, “Blocking Property of Persons Who Threaten International Stabilization Efforts in the Western Balkans,” as amended by Executive Order 13304 of May 28, 2003, “Termination of Emergencies With Respect to Yugoslavia and Modification of Executive Order 13219 of June 26, 2001” and added to the SDN List. OFAC has determined that circumstances no longer warrant the inclusion of the following individuals on the SDN List under this authority.

1. ARSENOVIC, Djojo; DOB 06 Jan 1952; POB Donje Crnjelovo, Bosnia-Herzegovina (individual) [BALKANS].

2. BEARA, Ljubisa; DOB 14 Jul 1939; POB Sarajevo, Bosnia and Herzegovina (individual) [BALKANS].

3. BOROVNICA, Goran; DOB 15 Aug 1965; ICTY indictee at large (individual) [BALKANS].

4. DERONJIC, Miroslav; DOB 06 Jun 1945; POB Bratunac, Bosnia-Herzegovina; ICTY indictee (individual) [BALKANS].

5. HADZIC, Goran; DOB 07 Sep 1958; POB Municipality of Vinkovci, Croatia (individual) [BALKANS].

6. HYSENI, Xhemajl; DOB 15 Aug 1958; POB Lojane, Macedonia (individual) [BALKANS].

7. MARINIC, Zoran; DOB 06 Jun 1963; POB Busovaca, Bosnia-Herzegovina; ICTY indictee at large (individual) [BALKANS].

8. MRKSIC, Milan; DOB 20 Jul 1947; POB Vrginmost, Croatia; ICTY indictee in custody (individual) [BALKANS].

9. MUSLIU, Jonuz; DOB 05 Jan 1959; POB Konculj, Serbia and Montenegro (individual) [BALKANS].

10. NIKOLIC, Drago; DOB 09 Nov 1957; POB Vlasenica, Bosnia-Herzegovina; ICTY indictee (individual) [BALKANS].

11. RUSHITI, Sait (a.k.a. RUXHETI, Sait); DOB 07 Nov 1966 (individual) [BALKANS].

12. TODOROVIC, Stevan; DOB 29 Dec 1957; POB Donja Slatina, Bosnia-Herzegovina; ICTY indictee (individual) [BALKANS].

13. CENGIC, Hasan; DOB 03 Aug 1957; POB Odzak, Bosnia-Herzegovina (individual) [BALKANS].

14. OJDANIC, Dragoljub; DOB 01 Jun 1941; POB Ravni-Cajetina, Serbia and Montenegro; Ex-Fry Minister of Defense; ICTY indictee in custody (individual) [BALKANS].

15. BALA, Haradin; DOB 10 Jun 1957; POB Gornja Koretica, Serbia and Montenegro; ICTY indictee (individual) [BALKANS].

16. JOSIPOVIC, Drago; DOB 14 Feb 1955; POB Santici, Bosnia-Herzegovina; ICTY indictee (individual) [BALKANS].

17. MUCIC, Zdravko; DOB 31 Aug 1955; ICTY indictee (individual) [BALKANS].

18. STRUGAR, Pavle; DOB 13 Jul 1933; POB Pec, Serbia and Montenegro; ICTY indictee (individual) [BALKANS].

19. TALIC, Momir; DOB 15 Jul 1942; POB Piskavica, Bosnia-Herzegovina; ICTY indictee (individual) [BALKANS].

20. ZELENOVIC, Dragan; DOB 12 Feb 1961; ICTY indictee at large (individual) [BALKANS].

21. GASHI, Sabit; DOB 30 Dec 1967; POB Suva Reka, Serbia and Montenegro (individual) [BALKANS].

The removal of the individuals listed above from the SDN List is effective as of the date of publication in the Federal Register.

Dated: April 11, 2022.
Andrea M. Gacki,
Director, Office of Foreign Assets Control, U.S. Department of the Treasury.

[FR Doc. 2022-08144 Filed 4-14-22; 8:45 am]

BILLING CODE 4810-AL-P